CONSUMER PRODUCT SAFETY COMMISSION

Sunshine Act Meeting Notice

TIME AND DATE: Wednesday, January 25, 2012, 10 a.m.-11.a.m.

PLACE: Room 420, Bethesda Towers, 4330 East West Highway, Bethesda, Maryland.

STATUS: Commission Meeting—Open to the Public

MATTER TO BE CONSIDERED:

Briefing Matter: Infant Swings—Notice of Proposed Rulemaking.

A live webcast of the Meeting can be viewed at www.cpsc.gov/webcast

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: January 17, 2012.
Todd A. Stevenson,
Secretary.

[FR Doc. 2012-1094 Filed 1-17-12; 4:15 pm]

BILLING CODE 6355-01-P